FEDERAL RESERVE SYSTEM

Agency Information Collection Activities: Announcement of Board Approval Under Delegated Authority and Submission to OMB

SUMMARY:

Background

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Mary M. West—Division of Research and Statistics, Board of Governors of the Federal Reserve System, Washington, DC 20551 (202-452-3829); OMB Desk Officer—Alexander T. Hunt—Office of Information and Regulatory Affairs, Office of Management and Budget, New Executive Office Building, Room 3208, Washington, DC 20503 (202-395-7860).

Final Approval Under OMB Delegated Authority of the Extension for Three Years, Without Revision, of the Following Reports

1. Report title: Report of Selected Balance Sheet Items for Discount Window Borrowers.

Agency form number: FR 2046.

OMB Control number: 7100-0289.

Frequency: On occasion.

Reporters: Depository institutions.

Annual reporting hours: 2,654 hours.

Estimated average hours per response: 0.75 hours for adjustment or extended credit borrower; 0.25 hours for seasonal credit borrowers.

Number of respondents: 684.

Small businesses are affected.

General description of report: This information collection is required by sections 10B, 11(a)(2), and 11(i) of the Federal Reserve Act (12 U.S.C. 347b and 248(a)(2) and (i)) and individual respondent data are regarded as confidential (5 U.S.C. 552(b)(4)).

Abstract: The Federal Reserve's Regulation A, “Extensions of Credit by Federal Reserve Banks,” requires that Reserve Banks review balance sheet data in order to guard against inappropriate discount window borrowing situations. Borrowers report certain balance sheet data for a period that encompasses the dates of borrowing.

2. Report title: Annual Report on Status of Disposition of Assets Acquired in Satisfaction of Debts Previously Contracted.

Agency form number: FR 4006.

OMB Control number: 7100-0129.

Frequency: Annual.

Reporters: Bank holding companies.

Annual reporting hours: 3,000 hours.

Estimated average hours per response: 5 hours.

Number of respondents: 600.

Small businesses are affected.

General description of report: This information collection is required (12 U.S.C.§§ 1842(a) and 1843(c)(2)) and may be given confidential treatment upon request (5 U.S.C. § 552(b)(4)).

Abstract: Bank holding companies that have acquired assets or shares through foreclosure in the ordinary course of collecting a debt previously contracted (DPC) are required to submit the report annually for assets or shares that have been held beyond two years from the acquisition date. The report does not have a required format; bank holding companies submit the information in a letter. The letter contains information on the progress made to dispose of such assets or shares and also requests permission for a one-year extension to hold them, as applicable. The Federal Reserve may grant requests for up to three one-year extensions. This report is required pursuant to the Board's authority under the Bank Holding Company Act and Regulation Y. The Federal Reserve uses the information to fulfill its statutory obligation to supervise bank holding companies.

3. Report title: Notice of Branch Closure.

Agency form number: FR 4031.

OMB Control number: 7100-0264.

Frequency: On occasion.

Reporters: State member banks.

Annual reporting hours: 783 hours.

Estimated average hours per response: 2 hours for reporting requirements; 1 hour for disclosure requirements; 8 hours for recordkeeping requirements.

Number of respondents: 226.

Small businesses are affected.

General description of report: This information collection is required (12 U.S.C. 1831r-l(a)(1)) and may be given confidential treatment upon request (5 U.S.C. § 552(b)(4)).

Abstract: These reporting, recordkeeping, and disclosure requirements regarding the closing of any branch of an insured depository institution are imposed by section 228 of the Federal Deposit Insurance Corporation Improvement Act of 1991 (FDICIA). There is no reporting form associated with the reporting portion of this information collection; state member banks notify the Federal Reserve by letter prior to closing a branch. The Federal Reserve uses the information to fulfill its statutory obligation to supervise state member banks.

Final Approval Under OMB Delegated Authority of the Reinstatement For One Year, Without Revision, of the Following Report

1. Report title: Report of Terms of Credit Card Plans.

Agency form number: FR 2572.

OMB Control number: 7100-0239.

Frequency: Semiannual.

Reporters: Commercial banks, savings and loans, savings banks, and finance companies.

Annual reporting hours: 75 hours.

Estimated average hours per response: 0.25 hours.

Number of respondents: 150.

Small businesses are not affected.

General description of report: The Board is authorized to collect this voluntary information collection (15 U.S.C. 1646(b)). The data are not considered confidential.

Abstract: This report was collected for the last time as of January 31, 2000; it was discontinued prior to the July 2000 reporting date pursuant to the Federal Reports Elimination and Sunset Act of 1995 (Sunset Act) (PL 104-66). In December 2000, the Congress approved the American Homeownership and Economic Opportunity Act of 2000 (Act) that restored the reporting of this information collection, along with forty others. Title XI of the Act states that section 3003(a)(1) of the Sunset Act “shall not apply to any report required to be submitted under any of the following provisions of law: * * * Section 8 of the Fair Credit and Charge Card Disclosure Act of 1998 (15 U.S.C. 1637 note); * * *”. Upon reinstatement, this report will collect data on credit card pricing and availability from a sample of at least 150 financial institutions that offer credit cards. The information will be reported to the Congress and made available to the public in order to promote competition within the industry.

Board of Governors of the Federal Reserve System, July 30, 2001.
Jennifer J. Johnson,
Secretary of the Board.

[FR Doc. 01-19373 Filed 8-2-01; 8:45 am]

BILLING CODE 6210-01-P